DEPARTMENT OF TRANSPORTATION

Federal Aviation Administration

14 CFR Part 39

[Docket No. FAA-2008-0898; Directorate Identifier 2007-NM-200-AD; Amendment 39-15856; AD 2009-06-19]

RIN 2120-AA64

Airworthiness Directives; Boeing Model 767-200 and 767-300 Series Airplanes

AGENCY: Federal Aviation Administration (FAA), DOT.

ACTION: Final rule.

SUMMARY: We are adopting a new airworthiness directive (AD) for certain Boeing Model 767-200 and 767-300 series airplanes. This AD requires detailed inspections of the aft pressure bulkhead for damage, mid-frequency eddy current (MFEC) and low frequency eddy current (LFEC) inspections of radial web lap splices, tear strap splices, and super tear strap splices for cracking, and corrective actions if necessary. This AD results from analysis that indicates fatigue cracks of the web lap splice, tear strap splice, or super tear strap splice of the aft bulkhead are expected to occur on certain Boeing Model 767-200 and 767-300 series airplanes. We are issuing this AD to detect and correct fatigue cracks of the aft pressure bulkhead, which could result in rapid decompression of the passenger compartment and possible damage or interference with airplane control systems that penetrate the bulkhead, and consequent loss of controllability of the airplane.

DATES: This AD is effective April 28, 2009.

The Director of the Federal Register approved the incorporation by reference of a certain publication listed in this AD as of April 28, 2009.

ADDRESSES: For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tamara L. Anderson, Aerospace Engineer, Airframe Branch, ANM-120S, FAA, Seattle Aircraft Certification Office, 1601 Lind Avenue, SW., Renton, Washington 98057-3356; telephone (425) 917-6421; fax (425) 917-6590.

SUPPLEMENTARY INFORMATION:

Discussion

We issued a notice of proposed rulemaking (NPRM) to amend 14 CFR part 39 to include an airworthiness directive (AD) that would apply to certain Boeing Model 767-200 and 767-300 series airplanes. That NPRM was published in the Federal Register on August 21, 2008 (73 FR 49366). That NPRM proposed to require detailed inspections of the aft pressure bulkhead for damage, mid-frequency eddy current (MFEC) and low frequency eddy current (LFEC) inspections of radial web lap splices, tear strap splices, and super tear strap splices for cracking, and corrective actions if necessary.

Comments

We gave the public the opportunity to participate in developing this AD. We considered the comments received.

Request To Refer to AD 2003-18-10

Boeing and United Airlines ask that we refer to AD 2003-18-10, amendment 39-13301 (68 FR 53503, September 11, 2003) in the AD.

Boeing states that AD 2003-18-10 requires a revision of the Boeing 767 Maintenance Planning Data (MPD) Document D622T001-9 to incorporate the October 2002 revision, and Appendix B of the Boeing 767 MPD Document D622T001 to incorporate the December 2002 revision, for Model 767 line numbers 1-895. Boeing adds that the inspection requirements of Boeing Alert Service Bulletin 767-53A0147, dated August 16, 2007, supersede the Boeing 767 MPD Document D622T001-9 and Document D622T001, Appendix B, inspections for Structural Significant Items (SSI) 53-80-I01B, C, D, and E. Boeing concludes that the NPRM affects the requirements of AD 2003-18-10 and asks that a reference to that AD be added to the “Affected ADs” paragraph of the NPRM.

United Airlines (UAL) states that a reference to AD 2003-18-10 should be included because paragraph 1.F. of Boeing Alert Service Bulletin 767-53A0147, dated August 16, 2007, states that the Accomplishment Instructions “are approved as an alternative method of compliance (AMOC) to the inspections of SSI 53-80-I01B, C, D, and E of Boeing 767 MPD Document D622T001-9 and Appendix B of Boeing 767 MPD Document D622T001 as required by paragraph (d) of Airworthiness Directive (AD) 2003-18-10.” In addition, due to the AD-related SSIs, UAL states that the NPRM should include the SSI numbers specified in Boeing Alert Service Bulletin 767-53A0147, dated August 16, 2007.

We do not agree that AD 2003-18-10 should be referred to in this AD. The “Affected ADs” paragraph is used to refer to the AD number of supersedure and revision ADs only; we consider AD 2003-18-10 a “related AD,” not a supersedure or revision. AD 2003-18-10 applies to certain Boeing Model 767 series airplanes. That AD currently requires revising the Airworthiness Limitations Section of the MPD Document (767 Airworthiness Limitations Instructions (ALI)). AD 2003-18-10 also incorporates into the ALI certain inspections and compliance times to detect fatigue cracking of principal structural elements (PSEs). AD 2003-18-10 is already referred to in Boeing Alert Service Bulletin 767-53A0147, dated August 16, 2007, and since that service bulletin is the source of service information for accomplishing the required actions in this AD it is not necessary to refer to AD 2003-18-10 in this AD. We have made no change to the AD in this regard.

Requests To Clarify the Alternative Method of Compliance (AMOC) Paragraph Relative to AD 2003-18-10

Boeing asks that we clarify the AMOC paragraph to ensure that AMOCs for repairs are required only for the requirements of the NPRM, not the requirements of AD 2003-18-10 that are specifically superseded in paragraph 1.F. “Approval,” of Boeing Alert Service Bulletin 767-53A0147, dated August 16, 2007. Boeing states that the inspections in Boeing Alert Service Bulletin 767-53A0147, dated August 16, 2007, supersede the Boeing 767 MPD Document D622T001-9 and Document D622T001, Appendix B, inspections for SSI 53-80-I01B, C, D, and E. Boeing adds that if cracks are found and repaired, an AMOC to the superseded inspections of AD 2003-18-10 specifically referenced in the above sentence is not required or applicable. Boeing asks that paragraph (g)(3) of the NPRM be changed to add the following: Alternative inspections for repair configurations require an AMOC to this AD only, not the requirements of AD 2003-18-10, which have been superseded by the inspection in Boeing Alert Service Bulletin 767-53A0147, dated August 16, 2007. This AMOC applies only to the areas inspected as specified in Boeing Alert Service Bulletin 767-53A0147, dated August 16, 2007.

Delta Airlines states that all repairs that would receive an AMOC to any of the repetitive inspections required by this AD (in the repaired area) should automatically be considered as having received an AMOC to the respective and equivalent inspections required by AD 2003-18-10. Delta adds that this is for SSIs 53-80-I01B, C, D, and E, as specified in paragraph 1.F. of Boeing Alert Service Bulletin 767-53A0147, dated August 16, 2007. Delta notes that the operator should not have to apply for such an AMOC.

We do not agree that an AMOC is not necessary for inspection requirements in areas repaired as required by AD 2003-18-10. The repairs required by this AD affect the ability to accomplish certain inspections required by AD 2003-18-10, resulting in the need for an AMOC to that AD. The AMOC provided in paragraph 1.F. of Boeing Alert Service Bulletin 767-53A0147, dated August 16, 2007, allows for only the inspections in Boeing Alert Service Bulletin 767-53A0147, dated August 16, 2007, to be an AMOC to certain inspections in AD 2003-18-10. That AMOC does not include approval of inspections as a separate AMOC to this AD as a result of a repair in repaired areas. However, we agree that inspections of repaired areas, if approved as an AMOC for the inspection requirements of this AD, should also be approved as an AMOC to the inspection required by AD 2003-18-10 for the repaired areas only. Additionally, we agree that the AMOC paragraph should be clarified relative to inspections of repaired areas as required by AD 2003-18-10. We have added paragraph (g)(4) to this AD for clarification and to provide this AMOC approval.

Conclusion

We reviewed the relevant data, considered the comments received, and determined that air safety and the public interest require adopting the AD with the change described previously. This change will neither increase the economic burden on any operator nor increase the scope of the AD.

Costs of Compliance

There are about 244 airplanes of the affected design in the worldwide fleet. This AD affects about 84 airplanes of U.S. registry. The actions take about 31 work hours per airplane, at an average labor rate of $80 per work hour. Based on these figures, the estimated cost of the AD for U.S. operators is $208,320, or $2,480 per airplane, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-06-19 Boeing: Amendment 39-15856. Docket No. FAA-2008-0898; Directorate Identifier 2007-NM-200-AD.

Effective Date

(a) This airworthiness directive (AD) is effective April 28, 2009.

Affected ADs

(b) None.

Applicability

(c) This AD applies to Boeing Model 767-200 and 767-300 series airplanes, certificated in any category; as identified in Boeing Alert Service Bulletin 767-53A0147, dated August 16, 2007.

Unsafe Condition

(d) This AD results from analysis that indicates fatigue cracks of the web lap splice, tear strap splice, or super tear strap splice of the aft bulkhead are expected to occur on certain Boeing Model 767-200 and 767-300 series airplanes. We are proposing this AD to detect and correct fatigue cracks of the aft pressure bulkhead, which could result in rapid decompression of the passenger compartment and possible damage or interference with airplane control systems that penetrate the bulkhead, and consequent loss of controllability of the airplane.

Compliance

(e) Comply with this AD within the compliance times specified, unless already done.

Inspections and Applicable Related Investigative and Corrective Actions

(f) Except as provided by paragraphs (f)(1) and (f)(2) of this AD: At the applicable compliance time and repeat intervals listed in Tables 1 and 2 of paragraph 1.E., “Compliance,” of Boeing Alert Service Bulletin 767-53A0147, dated August 16, 2007, do detailed inspections of the aft pressure bulkhead for damage, mid-frequency eddy current (MFEC) and low frequency eddy current (LFEC) inspections of radial web lap splices, tear strap splices, and super tear strap splices for cracking, and applicable corrective actions, by accomplishing all the applicable actions specified in the Accomplishment Instructions of the service bulletin.

(1) Where Table 1 of paragraph 1.E., “Compliance,” of Boeing Alert Service Bulletin 767-53A0147, dated August 16, 2007, specifies a compliance time after the date on that service bulletin, this AD requires compliance within the specified compliance time after the effective date of this AD.

(2) Where Boeing Alert Service Bulletin 767-53A0147, dated August 16, 2007, specifies a compliance time of “As given by Boeing” or to contact Boeing for the appropriate action, this AD requires, before further flight, inspections of the area of repair and repair of any damaged/cracked part, as applicable, using a method approved in accordance with the procedures specified in paragraph (g) of this AD.

Alternative Methods of Compliance (AMOCs)

(g)(1) The Manager, Seattle Aircraft Certification Office (ACO), FAA, ATTN: Tamara L. Anderson, Aerospace Engineer, Airframe Branch, ANM-120S, 1601 Lind Avenue, SW., Renton, Washington telephone (425) 917-6421; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane and the approval must specifically refer to this AD.

(4) Inspections of repaired areas approved as an AMOC for the inspection requirements of this AD are also approved as an AMOC to the inspections for the repaired areas only as required by paragraph (d) of AD 2003-18-10.

Material Incorporated by Reference

(h) You must use Boeing Alert Service Bulletin 767-53A0147, dated August 16, 2007, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on March 12, 2009.
Ali Bahrami,
Manager, Transport Airplane Directorate, Aircraft Certification Service.

[FR Doc. E9-5961 Filed 3-23-09; 8:45 am]

BILLING CODE 4910-13-P